DEPARTMENT OF THE INTERIOR

National Park Service

[NPS-IMR-GLCA; PPWONRADE2, PXXNRAD0553.00.1, PMP00EI05.YP000 ]

Off-Road Vehicle Management Plan, Draft Environmental Impact Statement, Glen Canyon National Recreation Area, Arizona and Utah

AGENCY: National Park Service, Interior.

ACTION: Notice of availability of the Draft Environmental Impact Statement for the Off-Road Vehicle Management Plan, Glen Canyon National Recreation Area.

SUMMARY: Pursuant to the National Environmental Policy Act of 1969, 42 U.S.C. 4332(2)(C), the National Park Service (NPS) announces the availability of a Draft Environmental Impact Statement (Plan/DEIS) for the Off-Road Vehicle Management Plan, Glen Canyon National Recreation Area (GLCA), located in Arizona and Utah. The Plan/DEIS evaluates the impacts of four action alternatives that address off-road vehicle (ORV) management. It also assesses the impacts that could result from continuing the current management framework in the no-action alternative.

DATES: The NPS will accept comments on the Draft Environmental Impact Statement from the public for 60 days following publication by the U.S. Environmental Protection Agency (EPA) of the Notice of the Availability of the Draft Environmental Impact Statement. After the EPA Notice of Availability is published, the NPS will schedule public meetings to be held during the comment period. Dates, time, and locations of these meetings will be announced in press releases, a newsletter, and on the NPS Planning, Environment, and Public Comment (PEPC) Web site for the project at http://parkplanning.nps.gov/GLCA.

ADDRESSES: Information will be available for public review and comment online at: http://parkplanning.nps.gov/GLCA. Copies of the Plan/DEIS will also be available at Glen Canyon National Recreation Area Headquarters, 691 Scenic View Drive, Page, Arizona 86040.

FOR FURTHER INFORMATION CONTACT: Teri Tucker, Chief of Planning & Compliance, Glen Canyon National Recreation Area, P.O. Box 1507, Page, Arizona 86040, by phone at 928-608-6207, or by email at teri_tucker@nps.gov.

SUPPLEMENTARY INFORMATION: The purpose of this Plan/DEIS is to evaluate off-road use and on-road all-terrain vehicle (ATV) use and develop management actions that preserve Glen Canyon's scientific, scenic, and historic features; provide for the recreational use and enjoyment of the area; and promote the resources and values for which the area was established as a unit of the national park system. This Plan/DEIS does not adjudicate, analyze, or otherwise determine the validity of R.S. 2477 (Rights-of-Way) claims.

The Plan/DEIS evaluates five alternatives—a no-action alternative (A) and four action alternatives (B, C, D, and E), all of which are summarized below. Alternative E is the NPS preferred alternative. Alternative B is the environmentally preferable alternative. Other alternatives were explored but dismissed from detailed analysis.

• Alternative A—No-Action. The no-action alternative represents the status quo and the continuation of existing management policies and actions related to off-road use in Glen Canyon. This alternative is consistent with the Glen Canyon 1979 General Management Plan (GMP) and other planning documents related to off-road travel in Glen Canyon. Under this alternative, conventional motor vehicles would continue to be allowed at 12 accessible shoreline areas including Blue Notch, Bullfrog North and South, Copper Canyon, Crosby Canyon, Dirty Devil, Farley Canyon, Neskahi, Piute Canyon, Red Canyon, Stanton Creek, Warm Creek and White Canyon, subject to water level closures. Lone Rock Beach and Lone Rock Play Area would remain open to conventional motor vehicles, street-legal ATVs and off highway vehicles (OHV) as defined by state law. Conventional motor vehicles and street legal ATVs would be allowed on GMP roads, with the exception of roads in the Orange Cliffs Management Unit, where ATVs would continue to be prohibited. Off-road use would continue on routes in the Ferry Swale area by all vehicle types. Alternative A does not include safety or noise restrictions and does not include a permit system.

• Alternative B—No Off-road Vehicle Use. Under alternative B, off-road use would be managed in a manner consistent with the remote, undeveloped, and lightly traveled nature which characterizes much of Glen Canyon. The isolated and primitive characteristics of the Glen Canyon backcountry would be maintained by limiting the operation of all types of motor vehicles to designated roads. There would be no designated ORV routes or areas. All existing off-road use areas, including the accessible shorelines currently open, Lone Rock Beach and Lone Rock Beach Play Area, would be closed and restored to natural conditions. Conventional motor vehicles and street legal ATVs would be allowed on GMP roads, with the exception of roads in the Orange Cliffs Management Unit, where ATVs would continue to be prohibited.

• Alternative C—Increased Motorized Access. Under this alternative, off-road use would be managed in a manner that would expand the recreational opportunities in Glen Canyon by increasing the number of ORV routes and areas. Under this alternative, conventional motor vehicles, street-legal ATVs and OHVs, as defined by state law, would be allowed at 15 accessible shorelines, including Blue Notch, Bullfrog North and South, Copper Canyon, Crosby Canyon, Dirty Devil, Farley Canyon, Hite Boat Ramp, Neskahi, Nokai Canyon, Piute Canyon, Paiute Farms, Red Canyon, Stanton Creek, Warm Creek and White Canyon, subject to water level closures. Lone Rock Beach and Lone Rock Play Area would be open to conventional motor vehicles, street-legal ATVs and OHVs. The speed limit at the accessible shorelines and Lone Rock Beach would be 15 mph and quiet hours after 10 p.m. would be enforced. A permit would be required for all off-road travel. A red or orange whip flag would be required at the Lone Rock Beach Play Area in accordance with Utah OHV regulations. ORV routes would be designated on 12.1 miles of pre-existing routes in the Ferry Swale area. Under this alternative conventional motor vehicles, street legal ATVs and OHVs would be allowed on all GMP roads, including on roads in the Orange Cliffs Management Unit. The speed limit on unpaved GMP roads would be 25 mph or as posted. All ORVs and on-road ATVs must not exceed a sound level of 96 decibels when operated.

• Alternative D—Decreased Motorized Access. This alternative protects natural and cultural resources by limiting off-road use. Under this alternative, Lone Rock Beach Play Area, Blue Notch, Bullfrog North and South, Copper Canyon, Crosby Canyon, Neskahi, Nokai Canyon, Piute Canyon, Paiute Farms, Red Canyon, Warm Creek and White Canyon would be closed and restored to natural conditions. Conventional motor vehicles would be permitted at four designated accessible shoreline areas, Farley Canyon, Dirty Devil, Hite Boat Ramp and Stanton Creek. Lone Rock Beach would be open only to conventional vehicles. The speed limit at the accessible shorelines and Lone Rock Beach would be 15 mph and quiet hours after 10 p.m. would be enforced. A permit would be required for all off-road use. No ATVs or OHVs would be allowed in Glen Canyon National Recreation Area. All ORVs must not exceed a sound level of 96 decibels when operated. ORV routes would not be designated in the Ferry Swale area.

• Alternative E—Mixed Use (NPS Preferred Alternative). Alternative E is designed to protect resources and enhance the visitor experience by identifying and designating specific areas capable of supporting on-road ATV use and off-road use while prohibiting such uses in areas where resources and values may be at risk. Under this alternative one vehicle-accessible shoreline area—Warm Creek—would be closed permanently. Fourteen areas—Blue Notch, Bullfrog North and South, Copper Canyon, Crosby Canyon, Dirty Devil, Farley Canyon, Hite Boat Ramp, Neskahi, Nokai Canyon, Piute Canyon, Paiute Farms, Red Canyon, Stanton Creek and White Canyon—would remain open to conventional motor vehicles and street-legal ATVs, subject to water-level closures. Lone Rock Beach and Lone Rock Beach Play area would be open to conventional vehicles, street-legal ATVs and OHVs, as defined by state law. The speed limit at the accessible shorelines and Lone Rock Beach would be 15 mph and quiet hours after 10 p.m. would be enforced. Lone Rock Beach would include a no vehicle area. A red or orange whip flag would be required at the Lone Rock Beach Play Area in accordance with Utah OHV regulations. In addition, ORV routes would be designated on 12.1 miles of pre-existing routes in the Ferry Swale area. Under this alternative, conventional motor vehicles, street-legal ATVs and OHVs, as defined by state law, would be allowed on unpaved GMP roads, except ATVs and OHVs would not be allowed on roads in the Orange Cliffs Management Unit. The speed limit on unpaved GMP roads would be 25 mph or as posted. Conventional motor vehicles and street-legal ATVs would be allowed on paved GMP roads. All ORVs and on-road ATVs must not exceed a sound level of 96 decibels when operated.

If you wish to comment, you may submit your comments by any one of several methods. You may mail comments to Office of the Superintendent, Glen Canyon National Recreation Area, P.O. Box 1507, Page, Arizona 86040. You may also submit your comments online on the PEPC Web site at http://parkplanning.nps.gov/GLCA. Finally, you may hand-deliver comments to Glen Canyon National Recreation Area, 691 Scenic View Drive, Page, Arizona 86040. Oral statements and written comments will also be accepted during the public meetings. Comments will not be accepted by fax, email, or in any other way than those specified above. Bulk comments in any format (hard copy or electronic) that are submitted on behalf of others will not be accepted. Before including your address, phone number, email address, or other personal identifying information in your comment, you should be aware that your entire comment (including your personal identifying information) may be made publicly available at any time. While you can ask us in your comment to withhold your personal identifying information from public review, we cannot guarantee that we will be able to do so. We will make all submissions from organizations and businesses, and from individuals identifying themselves as representatives or officials of organizations or businesses, available for public inspection in their entirety.

Dated: July 12, 2013.
John Wessels,
Regional Director, Intermountain Region, National Park Service,

Editorial Note: This document was received at the Office of the Federal Register January 3, 2014.

[FR Doc. 2014-00078 Filed 1-14-14; 8:45 am]

BILLING CODE P